DEPARTMENT OF THE TREASURY

Submission for OMB Review; Comment Request

August 26, 2016.

The Department of the Treasury will submit the following information collection request to the Office of Management and Budget (OMB) for review and clearance in accordance with the Paperwork Reduction Act of 1995, Public Law 104-13, on or after the date of publication of this notice.

DATES: Comments should be received on or before September 30, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Departmental Offices

OMB Control Number: 1505-0216.

Type of Review: Revision of a currently approved collection.

Title: Troubled Asset Relief Program—Making Home Affordable Participants.

Abstract: Authorized under the Emergency Economic Stabilization Act (EESA) of 2008 (Pub. L. 110-343), the Department of the Treasury has implemented several aspects of the Troubled Asset Relief Program (TARP). Among these components is a voluntary foreclosure prevention program—the Making Home Affordable (MHA) program, under which the Department uses TARP capital to lower the mortgage payments of qualifying borrowers. The Treasury does this through agreements with mortgage servicers (Servicer Participation Agreements, or SPAs) to modify loans on their systems. Data is collected from servicers to ensure that the servicers can be paid for the loan modifications that they undertake, check for compliance, and report out on the effectiveness of the program.

Estimated Total Annual Burden Hours: 104,880.

Brenda Simms,
Treasury PRA Clearance Officer.

[FR Doc. 2016-20958 Filed 8-30-16; 8:45 am]

BILLING CODE 4810-25-P